FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011821.

Title: MSC/CMA CGM Space Charter Agreement.

Parties: Mediterranean Shipping Company, S.A., CMA CGM S.A.

Synopsis: The agreement authorizes MSC to charter space to CMA CGM in the trades between United Kingdom, Belgium, France, Germany and Mexico, on the one hand, and the U.S. East and Gulf Coasts (Eastport, Maine to Brownsville, TX), on the other hand.

Agreement No.: 011822.

Title: Priority/Crowley Space Charter Agreement.

Parties: Priority Transport, Inc., Crowley Liner Service, Inc.

Synopsis: The agreement authorizes Crowley to charter space fromPriority Transport in the trade between San Juan, Puerto Rico, and Santo Domingo, the Dominican Republic.

Agreement No.: 011823.

Title: Contship/P&O Nedlloyd Vessel Sharing Agreement.

Parties: P&O Nedlloyd Limited, P&O Nedlloyd B.V., Contship Containerlines.

Synopsis: Under the proposed agreement, the parties are authorized to share vessel space between the U.S. East Coast and North Europe, the Mediterranean, Australia, New Zealand, the Caribbean, the South Pacific, and Singapore.

Agreement No.: 011824.

Title: Contship/P&O Nedlloyd-CMA CGM/Marfret Agreement.

Parties: P&O Nedlloyd Limited, P&O Nedlloyd B.V., Contship Containerlines, CMA CGM S.A., CMA CGM (UK) Limited, Compagnie Maritime Marfret S.A.

Synopsis: Under the proposed agreement, the parties are authorized to share vessel space between the U.S. East Coast and North Europe, the Mediterranean, Australia, New Zealand, the Caribbean, the South Pacific, and Singapore.

Agreement No.: 011825.

Title: CS/PONL-HSDG Agreement.

Parties: P&O Nedlloyd Limited, P&O Nedlloyd B.V. and Contship Containerlines, Hamburg-Süd.

Synopsis: Under the proposed agreement, the parties are authorized to share vessel space between the U.S. East Coast and North Europe, the Mediterranean, Australia, New Zealand, the Caribbean, the South Pacific, and Singapore.

Agreement No.: 011826.

Title: CS/PONL-Hapag-Lloyd Agreement.

Parties: P&O Nedlloyd Limited, P&O Nedlloyd B.V., Contship Containerlines, Hapag-Lloyd Container Linie GmbH.

Synopsis: Under the proposed agreement, the parties are authorized to share vessel space between the U.S. East Coast and North Europe, the Mediterranean, Australia, New Zealand, the Caribbean, the South Pacific, and Singapore.

Agreement No.: 011827.

Title: Europe-Australia-New Zealand-U.S. East Coast Bridging Agreement.

Parties: P&O Nedlloyd Limited, P&O Nedlloyd B.V., Contship Containerlines, CMA CGM S.A., CMA CGM (UK) Limited, Compagnie Maritime Marfret S.A., Hamburg-Süd, Hapag-Lloyd Container Linie GmbH.

Synopsis: The proposed agreement would allow the parties to the Contship/P&O Nedlloyd Vessel Sharing Agreement, the CS/PONL-CMA CGM/Marfret Agreement, the CS/PONL-HSDG Agreement, and the CS/PONL-Hapag-Lloyd Agreement to discuss and agree on operational matters and slot allocations in connection with their services between the U.S. East Coast and North Europe, the Mediterranean, Australia, New Zealand, the Caribbean, the South Pacific, and Singapore.

By Order of the Federal Maritime Commission.
Dated: October 4, 2002.
Bryant L. VanBrakle,
Secretary.

[FR Doc. 02-25694 Filed 10-8-02; 8:45 am]

BILLING CODE 6730-01-P